DEPARTMENT OF HEALTH AND HUMAN SERVICES

Centers for Medicare & Medicaid Services

[CMS-9901-N]

Ground Ambulance and Patient Billing Advisory Committee

AGENCY: Centers for Medicare & Medicaid Services, Department of Health and Human Services.

ACTION: Notice.

SUMMARY: The No Surprises Act, enacted as part of the Consolidated Appropriations Act, 2021, requires the Secretary of Health and Human Services, the Secretary of Labor, and the Secretary of the Treasury (the Secretaries) to establish and convene an advisory committee for the purpose of reviewing options to improve the disclosure of charges and fees for ground ambulance services, better inform consumers of insurance options for such services, and protect consumers from balance billing. This notice announces the establishment of the Advisory Committee on Ground Ambulance and Patient Billing (the GAPB Advisory Committee) and solicits nominations for members to be appointed by the Secretaries.

DATES: Nominations for membership will be considered if they are received by December 13, 2021.

ADDRESSES: Nominations and requests for copies of the charter for the Advisory Committee on Ground Ambulance and Patient Billing may be submitted to the addresses specified below. All nominations will be shared among the Departments. Please do not submit duplicates. Nominations or requests for copies of the GAPB Advisory Committee Charter must be submitted in one of the following two ways:

1. Electronically. You may submit nominations or charter requests by email to GAPBAdvisoryCommittee@cms.hhs.gov.

2. By regular mail. You may mail nominations or charter requests to the following address: Attention: Shaheen Halim, Ph.D., J.D., Center for Consumer Information & Insurance Oversight, Centers for Medicare & Medicaid Services, 7500 Security Boulevard, Mail Stop WB-22-75, Baltimore, MD 21244-8016.

Please allow sufficient time for mailed comments to be received before the close of the nomination period.

FOR FURTHER INFORMATION CONTACT: Rogelyn D. McLean, Centers for Medicare & Medicaid Services, HHS, at (301) 492-4229.

Press inquiries may be submitted by phone to (202) 690-6145 or by email to press@cms.hhs.gov.

SUPPLEMENTARY INFORMATION:

I. Background

Section 117(a) of the No Surprises Act, enacted as part of the Consolidated Appropriations Act, 2021, div. BB, tit. I, Public Law 116-260 (Dec. 27, 2020), requires the Secretaries to establish and convene an advisory committee for the purpose of reviewing options to improve the disclosure of charges and fees for ground ambulance services, better inform consumers of insurance options for such services, and protect consumers from balance billing. The GAPB Advisory Committee is governed by the provisions of the Federal Advisory Committee Act (FACA), Public Law 92-463 (Oct. 6, 1972), as amended, 5 U.S.C. App. 2.

II. Charter, General Responsibilities, and Composition of the Advisory Committee on Ground Ambulance and Patient Billing

A. Charter Information and General Responsibilities

On November 16, 2021, the Secretaries of Health and Human Services, Labor, and the Treasury finalized the charter establishing the GAPB Advisory Committee. The GAPB Advisory Committee will advise the Secretaries on options to improve the disclosure of charges and fees for ground ambulance services, better inform consumers of insurance options for such services, and protect consumers from balance billing.

The GAPB Advisory Committee must submit a report to the Secretaries, the Committees on Education and Labor, Energy and Commerce, and Ways and Means of the House of Representatives, and the Committees on Finance and Health, Education, Labor, and Pensions, that includes recommendations with respect to the disclosure of charges and fees for ground ambulance services and insurance coverage, consumer protection and enforcement authorities of the Departments of Health and Human Services, Labor, and the Treasury and State authorities, and the prevention of balance billing to consumers. The recommendations shall address, at a minimum, options, best practices, and identified standards to prevent instances of balance billing; steps that can be taken by State legislatures, State insurance regulators, State attorneys general, and other State officials as appropriate, consistent with current legal authorities regarding consumer protection; and legislative options for Congress to prevent balance billing.

The GAPB Advisory Committee must submit this report no later than 180 days after the date of its first meeting.

A copy of the charter for the Advisory Committee may be obtained by submitting a written request to the address specified in the ADDRESSES section of this notice.

B. Composition of the Advisory Committee on Ground Ambulance and Patient Billing

The GAPB Advisory Committee shall consist of the following:

(i) The Secretary of Labor, or the Secretary's designee;

(ii) the Secretary of Health and Human Services, or the Secretary's designee;

(iii) the Secretary of the Treasury, or the Secretary's designee;

(iv) One representative, to be appointed jointly by the Secretaries, for each of the following:

(I) Each relevant Federal agency, as determined by the Secretaries;

(II) State insurance regulators;

(III) Health insurance providers;

(IV) Patient advocacy groups;

(V) Consumer advocacy groups;

(VI) State and local governments;

(VII) Physician specializing in emergency, trauma, cardiac, or stroke;

(VIII) State Emergency Medical Services Officials; and

(IX) Emergency medical technicians, paramedics, and other emergency medical services personnel.

(v) Three representatives, to be appointed jointly by the Secretaries, to represent the various segments of the ground ambulance industry.

(vi) Up to an additional 2 representatives otherwise not described in paragraphs (i) through (v), as determined necessary and appropriate by Secretaries.

III. Submissions of Nominations

The Secretaries are requesting nominations for membership on the GAPB Advisory Committee. The Secretaries are also requesting nominations for a member to serve as the chairperson of the GAPB Advisory Committee. The Secretaries will consider qualified individuals who are self-nominated or are nominated by organizations representing affected stakeholders when selecting those representatives. The Secretaries will make every effort to appoint members to serve on the GAPB Advisory Committee from among those candidates determined to have the technical expertise required to meet specific statutory categories and Departmental needs, and in a manner to ensure an appropriate balance of membership. Selection of committee membership will be consistent with achieving the greatest impact, scope, and credibility among diverse stakeholders. The diversity in such membership includes, but is not limited to, race, gender, disability, sexual orientation, and gender identity.

The Secretaries reserve discretion to appoint members who were not nominated in response to this notice to serve on the GAPB Advisory Committee if necessary to meet specific statutory categories and Departmental needs in a manner to ensure an appropriate balance of membership.

Any interested person may nominate one or more qualified individuals (self-nominations will also be accepted). Each nomination must include the following information:

1. A letter of nomination that contains contact information for both the nominator and nominee (if not the same).

2. A statement from the nominee that he or she is willing to serve on the GAPB Advisory Committee for its duration and an explanation of interest in serving on the GAPB Advisory Committee. The nominee should also indicate which category or categories he or she is willing to represent. (For self-nominations, this information may be included in the nomination letter.)

3. A curriculum vitae that indicates the nominee's educational experience, as well as relevant professional experience.

4. Two letters of reference that support the nominee's qualifications for participation on the GAPB Advisory Committee. (For nominations other than self-nominations, a nomination letter that includes information supporting the nominee's qualifications may be counted as one of the letters of reference.)

To ensure that a nomination is considered, the Departments must receive all of the nomination information specified in section III of this notice by December 13, 2021. Nominations should be emailed or mailed to the appropriate address specified in the ADDRESSES section of this notice.

The Administrator of the Centers for Medicare & Medicaid Services (CMS), Chiquita Brooks-LaSure, having reviewed and approved this document, authorizes Lynette Wilson, who is the Federal Register Liaison, to electronically sign this document for purposes of publication in the Federal Register.

Lynette Wilson,
Federal Register Liaison, Centers for Medicare & Medicaid Services.

[FR Doc. 2021-25560 Filed 11-19-21; 4:15 pm]

BILLING CODE 4120-01-P